MERIT SYSTEMS PROTECTION BOARD

Variation From Normal Procedures—Effects of Attacks on World Trade Center and Pentagon

AGENCY: Merit Systems Protection Board.

ACTION: Notice.

SUMMARY: Notice is hereby given of variations from the Board's normal case processing procedures as a result of the September 11, 2001, attacks on the World Trade Center in New York and the Pentagon.

DATES: September 26, 2001.

FOR FURTHER INFORMATION CONTACT: Robert E. Taylor, Clerk of the Board, 1615 M Street, NW., Washington, DC 20419; telephone (202) 653-7200; facsimile (202) 653-7130; e-mail to mspb@mspb.gov.

SUPPLEMENTARY INFORMATION: The Merit Systems Protection Board is providing notice of the variations in its normal case processing procedures that have been placed into effect as a result of the September 11, 2001, attacks on the World Trade Center in New York and the Pentagon.

The Board's adjudicatory regulations contain numerous time limits for filing documents in Federal employee appeals of agency personnel actions and other matters within the Board's jurisdiction. In addition, MSPB judges issue various orders in the course of an adjudicatory proceeding that set a time limit for responses by the parties. The Board's regulations permit four methods of filing and serving documents—regular mail, commercial overnight delivery, facsimile, and personal delivery to the appropriate MSPB office. The date of filing by regular mail is determined by the postmark date. For filing by commercial overnight delivery, it is the date the document is delivered to the commercial overnight delivery service. For filing by facsimile, it is the date recorded on the facsimile transmission. For filing by personal delivery, it is the date the MSPB office receives the document.

At the time of the attacks on September 11, 2001, there were approximately 1,800 cases pending in MSPB regional and field offices and almost 800 cases pending at the Board's headquarters in Washington (data as of August 31, 2001). It is reasonable to assume, therefore, that a number of filings due to a MSPB office on September 11, 2001, could not be made on that date. An unknown number of filings of new cases subject to a filing deadline of September 11, 2001, also may have been affected by the events of that date.

The following circumstances may have affected filings due on September 11, 2001:

• The Board's New York Field Office, located in the vicinity of the World Trade Center, was evacuated following the attack there and remains closed until further notice.

• The Board's Washington, DC, headquarters office and its Washington Regional Office in Alexandria, Virginia, closed shortly after the attack on the Pentagon.

• Other MSPB regional and field offices throughout the country closed early on September 11, 2001.

• U.S. post offices closed throughout the country following the attacks, and many scheduled mail pickups on September 11, 2001, were not made. Certain scheduled mail pickups on September 12, 2001, also may not have been made.

• Facsimile transmissions to the New York Field Office could not be received because of communications failures in the area.

• Facsimile transmissions to the Board's headquarters may have been unable to get through because of the overload of telephone circuits in the Washington, DC, area.

In addition to the effect of the attacks on the ability of parties to make timely filings that were due on September 11, 2001, MSPB case files of Federal agencies located in the World Trade Center were destroyed in the attacks. Case files in the Pentagon may have been destroyed as well.

Accordingly, the Board has placed into effect the following variations from its normal case processing procedures:

1. Until further notice, filings due to the New York Field Office are to be made with the Northeastern Regional Office. The address, telephone and facsimile numbers, and e-mail address of the Northeastern Regional Office are: U.S. Customhouse, Room 501, Second & Chestnut Streets, Philadelphia, PA 19106; telephone (215) 597-9960; facsimile (215) 597-3456; e-mail to philadelphia@mspb.gov. Questions regarding cases in the New York Field Office should be directed to the Northeastern Regional Office.

2. In MSPB regional and field offices, judges will exercise discretion in accepting filings due on September 11, 2001, that were made (by any filing method) after that date.

3. At Board headquarters, the Clerk of the Board will exercise discretion in accepting filings due on September 11, 2001, that were sent by regular mail and postmarked after that date. Normally, a show cause order is issued when a late filing is received, but the Clerk of the Board may accept certain filings, particularly from the New York City area, without issuing a show cause order.

4. At Board headquarters, the Clerk of the Board will accept as timely filings due on September 11, 2001, that were sent by facsimile if the date recorded on the facsimile transmission is September 12, 2001.

5. Where MSPB case files of parties located in the World Trade Center or the Pentagon were destroyed by the attacks, MSPB judges may grant appropriate continuances until the case files can be reconstructed or dismiss cases without prejudice to their later refiling. MSPB offices will also assist the parties in reconstructing case files.

The Board and its employees throughout the country intend to accommodate parties to MSPB cases whose ability to pursue those cases was affected by the attacks on September 11, 2001. Where the variations from normal case processing procedures set forth above do not cover the circumstances in an individual case, the individual circumstances will be considered on a case-by-case basis. The Board and MSPB judges may waive any Board regulation the application of which is not required by law.

Dated: September 20, 2001.
Robert E. Taylor,
Clerk of the Board.

[FR Doc. 01-23986 Filed 9-25-01; 8:45 am]

BILLING CODE 7400-01-M